DEPARTMENT OF HEALTH AND HUMAN SERVICES

Agency for Toxic Substances and Disease Registry

Medical Testing Associated With Exposure to Asbestos; Meeting

The Agency for Toxic Substances and Disease Registry (ATSDR), Division of Health Studies (DHS) announces the following meeting:

Name: Medical Testing Associated with Exposure to Asbestos.

Times and Dates: 10:00 a.m.-6:00 p.m., June 18, 2001; 8:30 a.m.-5:00 p.m., June 19, 2001.

Place: Sheraton Buckhead Hotel; 3405 Lenox Road; Atlanta, GA 30326.

Status: Open to the public, limited only by the space available.

Purpose: This is a working group meeting to discuss issues related to initial and follow-up testing of persons with environmental and historic occupational exposure to asbestoform materials from vermiculite mined in Libby, MT.

Matters To Be Discussed: The agenda will include a discussion on the routes and duration of exposure to asbestoform materials through both historic environmental and occupational routes; commonly conducted screening tests; frequency and periodicity of follow-up testing; use of standard testing procedures; and testing of special and/or sensitive populations.

Agenda items are subject to change as priorities dictate.

Contact Person for More Information: Jeffrey A. Lybarger, M.D., director, Division of Health Studies, ATSDR, 1600 Clifton Road, NE, m/s E31, Atlanta, Georgia 30333. Telephone 404/639-6200.

The Director, Management Analysis and Services office has been delegated the authority to sign Federal Register notices pertaining to announcements of meetings and other committee management activities for both the Centers for Disease Control and Prevention and the Agency for Toxic Substances and Disease Registry.

Dated: May 24, 2001.
Carolyn J. Russell,
Director, Management Analysis and Services Office, Centers for Disease Control and Prevention.

[FR Doc. 01-14050 Filed 6-4-01; 8:45 am]

BILLING CODE 4163-70-P